COMMITTEE FOR PURCHASE FROM PEOPLE WHO ARE BLIND OR SEVERELY DISABLED

Procurement List; Proposed Additions and Deletions

AGENCY: Committee for Purchase from People Who Are Blind or Severely Disabled.

ACTION: Proposed Additions to and Deletions from Procurement List.

SUMMARY: The Committee is proposing to add to the Procurement List a product and services to be furnished by nonprofit agencies employing persons who are blind or have other severe disabilities, and to delete services previously furnished by such agencies.

Comments Must be Received on or Before: April 9, 2006.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Sheryl D. Kennerly, Telephone: (703) 603-7740, Fax: (703) 603-0655, or e-mail SKennerly@jwod.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each product or service will be required to procure the product and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the product and services to the Government.

3. There are no known regulatory alternatives which would accomplish the objectives of the Javits-Wagner-O'Day Act (41 U.S.C. 46-48c) in connection with the product and services proposed for addition to the Procurement List.

Comments on this certification are invited. Commenters should identify the statement(s) underlying the certification on which they are providing additional information.

End of Certification

The following products and services are proposed for addition to Procurement List for production by the nonprofit agencies listed:

Product

Product/NSNS: En-Route Care System (ERCS).

NSN: 6545-00-NSH-0018—En-Route Care System (ERCS).

NPA: ServiceSource, Inc., Alexandria, Virginia.

Contracting Activity: Marine Corps Systems Command (MARCORPSYSCOM), Quantico, VA.

Services

Service Type/Location: Facilities Maintenance Services, Center for Investigative Services,1137 Branchton Road, Boyers, Pennsylvania.

NPA: Goodwill Commercial Services, Inc., Pittsburgh, Pennsylvania.

Contracting Activity: Office of Personnel Management, Washington, DC.

Service Type/Location: Mailroom Operation, Internal Revenue Service, Ponce de Leon Avenue, Stop 27 1/), Hato Rey, Puerto Rico.

NPA: The Corporate Source, Inc., New York, New York.

Contracting Activity: U.S. Treasury, IRS Headquarters, Oxon Hill, Maryland.

Service Type/Location: Vehicle Maintenance/Operation, Oklahoma City Air Logistics Center, Tinker AFB, Oklahoma.

NPA: Professional Contract Services, Inc., Austin, Texas.

Contracting Activity: Tinker Air Force Base, Oklahoma.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the services to the Government.

3. There are no known regulatory alternatives which would accomplish the objectives of the Javits-Wagner-O'Day Act (41 U.S.C. 46-48c) in connection with the services proposed for deletion from the Procurement List.

End of Certification

The following services are proposed for deletion from the Procurement List:

Services

Service Type/Location: Administrative Services, Great Lakes Naval Training Center, Galley 535, 928 and 1128, 2703 Sheridan Road, Great Lakes, Illinois.

NPA: Opportunity, Inc., Highland Park, Illinois.

Contracting Activity: Department of the Navy.

Service Type/Location: Grounds Maintenance, Naval Supply Center, SW Division & various activities, Naval Station, San Diego, California.

NPA: The ARC of San Diego, San Diego, California.

Contracting Activity: Department of the Navy.

Service Type/Location: Grounds Maintenance, U.S. Army Reserve Center, 1650 Corey Boulevard, Decatur, Georgia.

NPA: Bobby Dodd Institute, Inc., Atlanta, Georgia.

Contracting Activity: U.S. Army, 81st Regional Support Command.

Service Type/Location: Janitorial/Custodial, U.S. Army Reserve Center, 909 Kearsley Park Blvd. Flint, Michigan.

NPA: Michigan Community Services, Inc., Swartz Creek, Michigan.

Contracting Activity: Headquarters, 88th Regional Support Command, Fort Snelling, MN.

Sheryl D. Kennerly,
Director, Information Management.

[FR Doc. E6-3440 Filed 3-9-06; 8:45 am]

BILLING CODE 6353-01-P